DEPARTMENT OF HEALTH AND HUMAN SERVICES

National Institutes of Health

Notice of Establishment

Pursuant to the Federal Advisory Committee Act, as amended (5 U.S.C. Appendix 2), the Director, National Institutes of Health (NIH), announces the establishment of the Interagency Autism Coordinating Committee (Committee).

The Committee shall coordinate all efforts within the Department of Health and Human Services concerning autism spectrum disorder to combat autism through research, screening, intervention and education. The Committee's primary mission is to facilitate the efficient and effective exchange of information on autism activities among the member agencies, and to coordinate autism-related programs and initiatives. The Committee will serve as a forum and assist in increasing public understanding of the member agencies' activities, programs, policies, and research, and in bringing important matters of interest forward for discussion.

Duration of this committee is two years from the date the Charter is filed.

Dated: July 31, 2007.
Elias Zerhouni,
Director, National Institutes of Health.

[FR Doc. 07-3850 Filed 8-6-07; 8:45 am]

BILLING CODE 4140-01-M